DEPARTMENT OF COMMERCE

National Oceanic and Atmospheric Administration

National Science Foundation

Docket No. [000127019-0019-01; I.D. No. 011000D]

RIN: [0648-ZA77]

Announcement of Funding Opportunity for research project grants and cooperative agreements

AGENCIES: Center for Sponsored Coastal Ocean Research/Coastal Ocean Program (CSCOR/COP), National Ocean Service (NOS), National Oceanic and Atmospheric Administration (NOAA), Commerce; and the National Science Foundation (NSF), Directorate for Geosciences, Division of Ocean Sciences (OCE).

ACTION: Solicitation of research proposals for the Global Ocean Ecosystems Dynamics Project.

SUMMARY: The purpose of this Document is to advise the public that NOAA/NOS/CSCOR/COP and NSF are soliciting 5-year proposals for the Global Ocean Ecosystems Dynamics (GLOBEC) Programs as part of a Federal research partnership.

This notice solicits applications for research projects from eligible non-Federal and Federal applicants. In an effort to maximize the use of limited resources, applications from non-Federal, non-NOAA Federal and NOAA applicants will be competed against each other. Research proposals selected for funding from non-Federal researchers will be funded through a project grant. Research proposals selected for funding from non-NOAA Federal applicants will be funded through an interagency transfer provided legal authority exists for the federal applicant to receive funds from another agency. Research proposals selected for funding from NOAA will be funded through NOAA.

DATES: The deadline for receipt of proposals in the COP office is 3:00 pm local time May 1, 2000. It is anticipated that final recommendations for awards will be made early in FY 2001.

ADDRESSES: Submit the original and 19 copies of your proposal to Coastal Ocean Program Office (GLOBEC 2000), SSMC#3, 9th Floor, Station 9700, 1315 East-West Highway, Silver Spring, MD 20910. NOAA Standard Form Applications with instructions are accessible on the following COP Internet Site: http://www.cop.noaa.gov under the COP Grants Support Section, Part D, Application Forms for Initial Proposal Submission.

FOR FURTHER INFORMATION CONTACT: Technical Information: Elizabeth Turner, GLOBEC 2000 Program Manager, COP Office, 301-713-3338/ext 135, Internet: Elizabeth.Turner@noaa.gov; or Dr. Phillip Taylor, NSF Division of Ocean Sciences, 703-306-1584, Internet: prtaylor@nsf.gov; Business Management Information: Leslie McDonald, COP Grants Administrator, 301-713-3338/ext 137, Internet: Leslie.McDonald@noaa.gov.

Copies of U.S. GLOBEC Reports referenced later in this Document under SUPPLEMENTARY INFORMATION are available from the following address or homepage: U.S. GLOBEC Coordinating Office University of Maryland Center for Environmental Science Chesapeake Biological Laboratory, P.O. BOX 38, Solomons, MD 20688; Phone: 410-326-7289; Fax: 410-326-7318; Internet:fogarty@cbl.umces.edu and http://www.usglobec.org.

Descriptions and points of contact of presently-funded GLOBEC Northeast Pacific (NEP) projects referenced later in this Document under SUPPLEMENTARY INFORMATION are available from the following address or homepage: U.S. GLOBEC Northeast Pacific Coordinating Office, Department of Integrative Biology, University of California, Berkeley, CA 94720-3140, Phone: 510- 642-7452; Fax: 510-643-1142, Internet: halbatch@socrates.berkeley.edu, http://www.usglobec.berkeley.edu/nep/index.html.

A model format of NSF form 1239, discussed later in this document under Part I, Section (7) Current and Pending Support, is available at http://www.nsf.gov/cgi-bin/getpub?00form1239.

University-National Oceanographic Laboratory System (UNOLS) vessel requirements are identified later in this document under Part I, Section (5) Budget, and are to be separately scheduled via UNOLS at the following web site location: http://www.gso.uri.edu/unols/ship/shiptime.html.

SUPPLEMENTARY INFORMATION:

Background

Program Description

For complete Program Description and Other Requirements criteria for the Coastal Ocean Program, see COP's General Grant Administration Terms and Conditions annual notice in the Federal Register (64 FR 49162, September 10, 1999) and at the COP home page.

Global Ocean Ecosystems Dynamics (U.S. GLOBEC) is a component of the U.S. Global Change Research Program, with the goals of understanding and ultimately predicting how populations of marine animal species (holozooplankton, fish and benthic invertebrates) respond to natural and anthropogenic changes in global climate. U.S. GLOBEC is also the U.S. component of the GLOBEC International program, a core project of the International Geosphere-Biosphere Program (IGBP), with co-sponsorship from the Scientific Committee on Oceanic Research and the Intergovernmental Oceanographic Commission.

This document is published under the auspices of the Global Ocean Ecosystems Dynamics (U.S. GLOBEC) program within NSF/OCE and the regional ecosystem studies and U.S. GLOBEC initiatives of NOAA's COP. U.S. GLOBEC has identified the Northeast Pacific (NEP), particularly the California Current System (CCS) and Coastal Gulf of Alaska (CGOA), as priorities for ecosystem studies in the next decade. Previous notices have solicited proposals to support modeling, retrospective studies, and field observations, including Long-Term Observation Programs (LTOPs), three-dimensional mesoscale surveys and process studies in the CCS.

This document solicits proposals to support three field activities in the Coastal Gulf of Alaska ecosystem: (1) process-oriented field studies; (2) mesoscale surveys; and (3) long-term observation projects; and two activities of broader scope: (4) modeling studies in the CCS and CGOA; and (5) retrospective studies in the CCS and CGOA.

To provide for continued long-term coordinated strategic planning of the NEP program, proposals are being solicited now for all future U.S. GLOBEC field research activities in the CGOA. This includes process-study research in the two field phases of the CGOA program. The major field process years will occur in 2001 and 2003, contingent on the availability of funding. In addition to soliciting research proposals for field work in the CGOA of the Northeast Pacific Ocean, this document requests proposals for modeling and retrospective analysis that augment or complement existing NEP efforts in these components. Modeling and retrospective proposals submitted in response to this document need not be CGOA-specific, but those that are peripheral to the core activities in the NEP will have low priority for funding. Research proposals that do not address these five specific activities will not be considered for funding.

U.S. GLOBEC's NEP program emphasizes studies on the biology and ecology of juvenile salmon, the dominant euphausiids, several large copepods, and forage fish (salmon prey) in coastal regions of the North Pacific; and how these populations are controlled by climatically variable physical forcing, especially at large-to meso-scales. The U.S. GLOBEC Northeast Pacific Implementation Plan (U.S. GLOBEC Report No. 17) was developed following several community-wide meetings at which U.S. scientists from the oceanographic and fisheries communities identified key scientific issues and research for the Northeast Pacific region.

Background information pertinent to the Northeast Pacific is found in U.S. GLOBEC Report Nos. 7, 11, 15 and 16, with Reports 15 and 16 providing information relevant to the CGOA. This notice provides the most up-to-date guidance about the NEP CGOA program. Investigators who plan to submit proposals in response to this Announcement should refer primarily to this GLOBEC notification, and secondarily to the Northeast Pacific Implementation Plan (U.S. GLOBEC Report No. 17). Note especially that the time line for NEP studies has changed from that shown in Report 17; there are now only 2 years of process studies planned for the California Current System (CCS)—not the three shown. Copies of these Documents are available under the address/homepage addresses listed earlier in this notice under FURTHER INFORMATION. The U.S. GLOBEC Northeast Pacific Implementation Plan (U.S. GLOBEC Report No. 17) presents a rationale for a coordinated study in the Northeast Pacific in two regions: the coastal Gulf of Alaska (CGOA) and the CCS ranging from Washington to Central California. Critical to that rationale is the observation that the salmon production domains in the CGOA and CCS covary, but are out of phase. U.S. GLOBEC proposes to investigate this coupling, and the biophysical mechanisms through which zooplankton and salmon populations respond to physical forcing and biological interactions in the coastal regions of the two gyres.

The Northeast Pacific CGOA study focuses on the continental shelf, but, where appropriate, also encompasses the processes and phenomena of the larger oceanic boundary region that affect the CGOA. Process studies in 2001 and 2003 will focus on the effects of near shore transports and cross-shelf exchange on the population dynamics of the target organisms in the northern Gulf of Alaska. Emphasis is on understanding the conditions that favor rapid growth and survival of juvenile pink salmon, so it will involve examining both bottom-up (productivity) and top-down (predation) processes.

Ultimately, the U.S. GLOBEC effort in the Northeast Pacific has an overall goal of improving predictability and management of living marine resources of the region through improved understanding of ecosystem interactions and the coupling between the physical environment and the living resources.

Program Goals

The over-arching goals of the Northeast Pacific studies are:

(1) To determine how biological processes and characteristics of zooplanktonic populations are affected by mesoscale features and dynamics in the Northeast Pacific; and

(2) To quantify the biological and physical processes that determine growth and survival of juvenile salmon in the coastal zone.

Within the overall goals outlined here, the Northeast Pacific/CGOA process-oriented field program has four general goals:

(1) To determine how changing climate, especially its impacts on local wind forcing, freshwater runoff, mixed layer depth, and basin-scale currents, affect spatial and temporal variability in mesoscale circulation and vertical stratification;

(2) To quantify how physical features in the CGOA impact zooplankton biomass, production, distribution, and the retention and exchange of zooplankton between coastal regions and oceanic waters, with particular emphasis on the targeted euphausiid and copepoda species. In turn, how do the zooplankton distributions influence the distributions of higher trophic level organisms (fish, seabirds, marine mammals);

(3) To quantify the importance of (a) local primary and secondary production, and (b) imported secondary production (e.g., cross-shelf import of large-bodied zooplankton [copepods and euphausiids] from deeper offshore waters in spring) for providing rapid growth and/or high survival of juvenile pink salmon in coastal waters of the Gulf of Alaska; and

(4) To determine the extent to which high and variable predation mortality on juvenile pink salmon in the coastal region of the Gulf of Alaska is responsible for large interannual variation in adult pink salmon populations, and the factors responsible for the variable predation intensity.

The geographic domain of the study is centered on the coastal shelf region southwest of Prince William Sound (off Seward, AK), but generally extends from approximately Shelikof Strait (in the west) to Yakutat Bay (in the east; approx. 143°-155°W). This is a major corridor for juvenile salmon migrations in the CGOA, both for pink salmon exiting from Prince William Sound, and for pink, sockeye, and chum salmon from SE Alaska stocks. Three-dimensional mesoscale surveys (via ship, drifter, mooring and satellite observations) and process studies will be conducted over a 7-month period (ca. April - October) in each of the two intensive, process-study years.

Mesoscale surveys of physical conditions and biological distributions in spring and fall will augment the less spatially-extensive LTOP observations, which will occur during all years (2001-2005) of the study. The surveys will provide the short-term spatial context for the focused process studies, and will provide three-dimensional data to supplement the predominantly two-dimensional LTOP data.

Key target species for U.S. GLOBEC process-oriented field studies in the CGOA are euphausiids, calanoid copepods Neocalanus, Calanus), and juvenile pink salmon. The most abundant euphausiids on the shelf in the Gulf of Alaska are Euphausia pacifica, Thysanoessa spinifera, T. inermis, and T. raschii. Of these, T. inermis is the most abundant in spring and summer, while T. raschii is distributed more inshore. Euphausia pacifica and T. spinifera are also common species in the CCS studies of the NEP, and are important subjects of study for developing comparisons between the two regions.

U.S. GLOBEC research in the NEP began in 1997, with integrated, multi-investigator, inter-disciplinary programs of modeling, retrospective analysis, and pilot-scale monitoring (henceforth referred to as the Long-Term Observation Program or LTOP). California Current field programs were funded in response to an AO released in early 1999. Proposers are advised to refer to descriptions of and preliminary results from these programs, and to consider already funded efforts underway in the CCS and CGOA prior to preparation of new proposals. Synthesis and new understanding of the large-scale and meso-scale forcing and responses in the NEP ecosystem will require integration of observations, models, and field experiments from the CCS and CGOA. Potential investigators should design observational programs, experiments and process-studies that will enable such comparisons between these two ecosystems of the NEP.

Specific information about the Northeast Pacific Study, including descriptions and points of contact of presently funded GLOBEC NEP projects, can be obtained from the address/homepage addresses listed earlier in this Document under FURTHER INFORMATION.

Structure of the CGOA Research Program

The NE Pacific Study will comprise five major components: (1) long-term observation programs (LTOP),

(2) mesoscale surveys,

(3) process-oriented field studies,

(4) modeling investigations, and

(5) retrospective/comparative analysis.

The large range of spatial and temporal scales of important forcing processes and responses in the NEP requires a nested sampling approach (and some associated tradeoffs), which is reflected in the descriptions of the LTOP, mesoscale surveys, and process-studies below.

Long-Term Observation Programs

Long-Term Observation Programs have been established by U.S. GLOBEC at two NEP sites: one along the Gulf of Alaska (GAK) transect extending offshore from Seward, AK, and the second encompassing several offshore extending transects off Newport and Coos Bay, OR, and off Northern California. In both regions, the programs are sampling ocean physics, nutrients, and biology at approximately bimonthly intervals (LTOP projects are described on the NEP web site).

Although GLOBEC focuses on zooplankton and juvenile salmon in the NEP, we encourage sampling of phytoplankton, nutrients, microzooplankton, and higher trophic levels. The LTOPs provide the fundamental seasonal description of the physical, chemical and biological environment that is required to complement the mesoscale surveys and process studies. Moreover, U.S. GLOBEC LTOPs will Document the low-frequency, large amplitude signals (e.g., regime shifts, El Ninos) that occur at the largest spatial scales in the Pacific.

LTOP projects may make use of multi-disciplinary moorings, long-term drifter deployments, and analysis of satellite data, in addition to seasonal ship observations. There is a continuing need for long-term mooring- and drifter-based observations and interpretation of regional satellite data, which provide the broadest temporal (moorings, drifters) and spatial (satellites) resolution and coverage.

This Document solicits proposals to continue, and perhaps augment, core LTOP observations along the GAK transect near Seward, AK. LTOP activities in other regions of the CGOA (e.g., Shelikof Strait or SE Alaska) might be considered if the observations are deemed critical to understanding the connection between large-scale atmospheric and ocean forcing and ecosystem responses, particularly of the target organisms. However, projects proposing LTOP activities beyond the core geographic region described earlier will have lower priority than activities within the core region.

Projects proposing to conduct LTOP observations should consider existing LTOP programs in place, both in the CGOA and elsewhere in the NEP. Present and prospective U.S. GLOBEC LTOP programs should consider (1) how they meet future U.S. GLOBEC needs, particularly for process studies, and (2) how they mesh into the larger framework of a coast wide network of programs undertaking repeated observations of ocean physics and biology at all trophic levels. Moreover, potential LTOP projects should contact the principals of existing LTOP projects to ensure that methodologies are comparable (see the NEP web site) among all of the LTOP sites.

Three-Dimensional Mesoscale Surveys

Ship surveys are needed to determine the distribution and abundance of the target species in relation to their physical and biological environment during the period of euphausiid recruitment and juvenile salmon entry into the ocean, and during the period of possible onshore transport of large, oceanic copepods (March to September). Surveys would be desirable in April (period when large calanoid copepods are advected onshore), July, and September-October. The latter two periods correspond with the anticipated times of juvenile salmon trawling (see following paragraphs). The ship-based mesoscale sampling should encompass the near shore Alaska Coastal Current region (driven primarily by freshwater input distributed along the coast, along with down welling-favorable winds), and extend offshore beyond the shelf-edge break, to investigate potential exchanges of shelf and deep ocean waters. High priority will be given to proposals that would survey a region extending from approximately Kodiak Island to Yakutat Bay, i.e., about 500-600 km alongshore, and extending from near shore to 200-250 km offshore. The fundamental importance of the mesoscale studies is to provide the basis for comparisons of population processes and their coupling to the physical structure and variability of the environment.

The mesoscale studies will provide a regional context for the in situ, process studies described here and provide data for evaluating the environment for juvenile salmon. Mesoscale surveys will provide the spatially-resolved three-dimensional data required to evaluate how well local LTOP data generalize to a broader region. Data from the mesoscale surveys will be used to bridge the gap between the low spatial (2-dimensional), but annual and long-term coverage of the LTOPs, and the intensive, but spatially-limited process-studies.

Surveys will also provide data required to evaluate coupled circulation-ecosystem models being developed for the NEP study sites, and for assimilation of data into these models. It is anticipated that the mesoscale surveys will be conducted at a given site only in years of process-studies and that three mesoscale surveys per year focused on critical periods in the life history of the target species (April, July, Sept.-Oct.) will be done.

Salmon Sampling

Trawling and gillnet sampling of juvenile salmon and multi- frequency hydro acoustic assessment of both salmon and zooplankton has been conducted in the summers of the past 3 years as part of a pilot LTOP program on the GAK line.

Trawling of juvenile salmon in the broader region described here is a critical addition to the CGOA component of the NEP program, since it will help to identify potentially critical regions supporting the rapid growth and/or high survival of salmon in the coastal corridor. Trawl spatial surveys will document habitat utilization by juvenile salmon, and their competitors and predators, in relation to physical dynamics and structures, and provide samples for dietary and genetic studies.

Proposals are solicited that will provide spatial descriptions of juvenile pink salmon, and their forage prey in this region. Sampling is desired at the time of ocean entry of pink salmon from Prince William Sound (July) and at the end of the first summer in the ocean (approx. September-October).

These cruises would also collect salmon from other source regions that are transported through the coastal corridor, and will be useful for examining (1) trophic relationships in the near shore ecosystem, and (2) genetic structure/stock identity of the salmonids. Highest priority will be given to salmon sampling in the field during process-study years, but contingent on the availability of funding and perceived program needs, salmon sampling in “off” years might be supported as well. Investigators proposing to sample juvenile salmon in the CGOA should coordinate sampling plans/gear with existing CCS and CGOA salmon sampling efforts in the NEP and with other juvenile salmon trawling efforts on the west coast (e.g., National Marine Fisheries Service research).

Process Studies

The physical and biological processes that control the population dynamics of the target species will be examined in process studies. Detailed investigations of mechanisms linking biological response to physical forcing at the meso- and other scales is the goal of process-study cruises. Process studies will occur during the spring-setup and productive summer seasons (March-October), preferably in conjunction with other program activities (mesoscale surveys, fish trawling).

The continental shelf outside Prince William Sound is identified for detailed process studies because it is a region that has a large influx of hatchery released juvenile pink salmon. The thermal marks carried by these salmon provide advantages in tracking mortality of the juveniles in their first summer near shore. It is strongly suspected, but not certain, that most of the “surviving” juvenile salmon entering the coastal ocean are swept westward in the general transport of the Alaska Coastal Current. A large fraction of the juvenile salmon do not survive, but the exact agent of their mortality is not known. A goal of the CGOA process studies will be to track the progression of an entering cohort in the western flow, and identify the agents of mortality (starvation, vagrancy, predation by birds, mammals, other fish, etc.).

The exchange of physical and biological properties across the frontal zones associated with the coastal buoyancy flows, and down welling-favorable winds, can influence the supply of nutrients for primary production, the retention (loss) of the target species and their prey in (from) the coastal zone, and interactions between the target species, their prey, and their predators; this will be studied in process-oriented cruises. Fine-scale description of the physical and biological fields comprising fronts may reveal aggregations of phytoplankton and zooplankton associated with specific physical (e.g., density, temperature) structures. Determination of the population structure of target organisms within the study area is further identified as an area of critical research.

Because of the movement and migratory patterns of juvenile salmon, process studies of pink salmon may require work outside the domain highlighted earlier, perhaps to regions extending further to the west (beyond Kodiak Island) to ensure success. Proposals that focus in geographical locations outside the principal study area should closely consider the availability of complementary sampling programs to provide a broader geographical context for their studies. Proposers should recognize that process studies that address relevant issues within the specific region described will have higher funding priority than projects aimed at peripheral goals or targeted at other geographic regions. Proposers seeking additional information concerning related NEP programs should contact the U.S. GLOBEC Northeast Pacific Coordinating Office at the address given earlier in this Document under FURTHER INFORMATION.

Questions to be addressed by process studies in the CGOA include:

(1) What is the time-dependent three-dimensional circulation associated with the buoyancy-driven coastal current, and the fronts associated with this feature in the CGOA?

(2) How do mesoscale transport processes affect the recruitment, vital rates, and other measures of population dynamics of the target species?

(3) What are the exchange rates, due to frontal processes, of water properties and the target species between the coastal corridor and offshore waters? What are the consequences for individual and population growth rates of these exchanges?

(4) How do biological and physical processes interact to control cross-shelf exchange of target organisms?

(5) Does strong seasonal variation in freshwater input and buoyancy-driven near shore flow cause frontal movement, and what are the effects on the exchange of water and organisms across the fronts?

(6) How does distribution, growth and survival of juvenile pink salmon (assessed using otolith marked fish) depend on the timing and intensity of cross-shelf import of large zooplankton (e.g., copepods and euphausiids), either directly (as salmon prey) or indirectly (as alternative prey for juvenile salmon predators)?

(7) How are salmon distributed in relation to mesoscale physical features, and what are the mechanisms responsible for the observed patterns?

(8) What are the dominant predators, how are they distributed, and what are their feeding rates and impacts on juvenile salmon during the period they transit the coastal zone of the CGOA?

Modeling

The research conducted during the CGOA study will result in a significant archive of data concerning abundance and distribution of the target species, source regions, vital rates, and trophic interrelationships. Inverse modeling will provide specific estimates of population vital rates. These archives and tools will provide significant opportunities for hypothesis testing concerning biophysical processes.

The program is expected to progress toward a data-assimilative capability, wherein LTOP and mesoscale survey data are incorporated into coupled biophysical models. In addition, process-oriented model studies are encouraged. The field research supported by U.S. GLOBEC on euphausiids, copepods, and salmon in the CGOA, together with already funded research in the CCS, provide opportunities for larger (basin) scale modeling of coupled biological/physical dynamics.

This announcement is soliciting additional modeling proposals that complement existing projects (described on the GLOBEC NEP web site), that provide additional breadth to the program by examining responses at additional trophic levels, and that explore processes in other targeted regions of the northeast Pacific. Proposals responding to this request for additional modeling activities in the NEP may deal with either the CGOA, the CCS, or both. Priority will be given to projects that complement or significantly augment ongoing modeling efforts—for example, evaluating the impact of other prey (e.g., forage fish) on salmon survival and distribution.

Retrospective/Comparative Analysis

A number of retrospective projects in the NEP were funded by earlier Requests for Proposals (RFPs). (See summaries on the NEP web site). Projects proposing retrospective analysis should Document or address population variability of key species (see U.S. GLOBEC Report No. 17) in NEP ecosystems on several different time and space scales. These studies should also examine linkages between physical and biological processes on these different scales. NEP retrospective analysis should attempt to test the core GLOBEC NEP hypotheses relating to the linkage between climate and ocean variability and population variability.

Previous U.S. GLOBEC reports (see esp. U.S. GLOBEC Report Nos. 11 and 15) review some of the kinds of data sets and research approaches suitable for examining links between climate variability, ocean physics and marine animal populations in the NEP. Other research approaches and examinations of other existing data sets may be appropriate for retrospective examination provided that they address the critical NEP GLOBEC mandates highlighted above.

With the funding of the CGOA field work in this notice, U.S. GLOBEC will have funded ecosystem studies in the Northwest Atlantic (a tidally and event dominated shelf bank), in the California Current (wind-driven up welling and advective system), and the CGOA (a buoyancy-driven down welling system). Comparative studies among these coastal ecosystems and with others (Benguela, North Africa, Bering Sea, California Bight, Southern Ocean) across the globe are feasible and could be undertaken. Moreover, recent studies of Calanus in the North Atlantic and of Euphausia superba in the Southern Ocean provide opportunities for broader, global-scale comparisons of biophysical/population dynamics among congeners.

Part I: Schedule and Proposal Submission

The provisions for proposal preparation provided here are mandatory. Proposals received after the published deadline or proposals that deviate from the prescribed format will be returned to the sender without further consideration. This announcement and additional background information will be made available on the COP home page.

Full Proposals

Applications submitted to this announcement require an original proposal and 19 proposal copies at time of submission. This includes color or high-resolution graphics, unusually-sized materials (not 8.5” x 11” or 21.6 cm x 28 cm), or otherwise unusual materials submitted as part of the proposal. For color graphics, submit either color originals or color copies. The stated requirements for the number of original proposal copies provide for a timely review process because of the large number of technical reviewers. Facsimile transmissions and electronic mail submission of full proposals will not be accepted.

Required Elements

All recipients are to closely follow the instructions and requirements in the preparation of the standard NOAA Application Forms and Kit requirements listed in Part II: Further Supplementary Information, paragraph (10) of this document. Each proposal must also include the following eight elements:

(1) Signed Summary title page: The title page should be signed by the Principal Investigator (PI) and the institutional representative. The Summary Title page identifies the project's title starting with the acronym GLOBEC 2000, a short title (<50 characters), and the lead principal investigator's name and affiliation, complete address, phone, FAX, and E-mail information. The requested budget for each fiscal year should be included on the Summary Title page. Multi-institution proposals must include signed Summary Title pages from each institution.

(2) One-page abstract/project summary: The Project Summary (Abstract) Form, which is to be submitted at time of application, shall include an introduction of the problem, rationale, scientific objectives and/or hypotheses to be tested, and a brief summary of work to be completed. The prescribed COP format for the Project Summary Form can be found on the COP Internet site under the COP Grants Support Section.

The summary should appear on a separate page, headed with the proposal title, institution(s), investigator(s), total proposed cost, and budget period. and should be written in the third person. The summary is used to help compare proposals quickly and allows the respondents to summarize these key points in their own words.

(3) Statement of work/project description: The proposed project must be completely described, including identification of the problem, scientific objectives, proposed methodology, relevance to the goals of the GLOBEC Program, and its scientific priorities. The project description section (including Relevant Results from Prior Support) should not exceed 15 pages.

Project management should be clearly identified with a description of the functions of each PI within a team. It is important to provide a full scientific justification for the research; do not simply reiterate justifications presented in this notice. Both page limits are inclusive of figures and other visual materials, but exclusive of references and milestone chart. This section should also include:

(a) The objective for the period of proposed work and its expected significance;

(b) The relation to the present state of knowledge in the field and relation to previous work and work in progress by the proposing principal investigator(s);

(c) A discussion of how the proposed project lends value to the program goals, and

(d) Potential coordination with other investigators.

NOAA has specific requirements that environmental data be submitted to the National Oceanographic Data Center; participating agencies may have additional requirements or guidelines for sharing of research materials and data.

(e) References cited: Reference information is required. Each reference must include the name(s) of all authors in the same sequence in which they appear in the publications, the article title, volume number, page numbers, and year of publications. While there is no established page limitation, this section should include bibliographic citations only and should not be used to provide parenthetical information outside of the 15-page project description.

(4) Milestone chart: Time lines of major tasks covering the 60-month duration of the proposed project.

(5) Budget: At time of proposal submission, all applicants shall submit the Standard Form, SF-424 (Rev 7-97), Application for Federal Assistance, to indicate the total amount of funding proposed for the whole project period. In lieu of the Standard Form 424A, Budget Information (Non-Construction), at time of original application, all proposers are required to submit a COP Summary Proposal Budget Form for each fiscal year increment (i.e., 2000, 2001 * * *2003). Multi-institution proposals must include budget forms from each institution.

Use of this budget form will provide for a detailed annual budget and the level of detail required by program staff to evaluate the effort to be invested by investigators and staff on a specific project. The COP budget form is compatible with forms in use by other agencies that participate in joint projects with COP; and can be found on the COP home page under COP Grants Support, Part D; or one may be requested by contacting the COP Grants Administrator listed earlier in this document under FURTHER INFORMATION.

All applicants shall include a budget narrative/justification that supports all proposed budget object class categories. The program office will review the proposed budgets to determine the necessity and adequacy of proposed costs for accomplishing the objectives of the proposed grant. The SF-424A, Budget Information (Non-Construction) Form, shall be requested from only those recipients subsequently recommended for award to the NOAA Grants Management Division after the competitive review process has been completed.

NSF requires information on ship requirements in order to schedule time on UNOLS vessels. Ship requirements should be identified in the proposal and separately scheduled via UNOLS at the web site location listed earlier in this Document under FURTHER INFORMATION. If no ship time is required, indicate so in the proposal. Information on ship time needs is not used in proposal evaluation, only in scheduling appropriate platform availability.

The investigator is responsible for sending copies to the UNOLS office and ship operators. Paper copies may be requested from UNOLS. The form is included in Appendix A of Instructions for Preparation of Proposals Requesting Support for Oceanographic Facilities,

However, the electronic version is strongly preferred for ease of information exchange and processing. The form has been available electronically since l994 on the web site listed earlier in this Document under FURTHER INFORMATION. The NSF guidelines and ship time form were included in the then-existing e-mail based Internet electronic dissemination system operated by NSF - Science and Technology Information System).

(6) Biographical sketch: Abbreviated curriculum vitae, two pages per investigator, are sought with each proposal. Include a list of up to five publications most closely related to the proposed project and up to five other significant publications. A list of all persons (including their organizational affiliation), in alphabetical order, who have collaborated on a project, book, article, or paper within the last 48 months should be included. If there are no collaborators, this should be so indicated. Students, post-doctoral associates, and graduate and postgraduate advisors of the PI should also be disclosed. This information is used to help identify potential conflicts of interest or bias in the selection of reviewers.

(7) Current and pending support: NSF requires information on current and pending support of all proposers. Describe all current and pending support for all PIs, including subsequent funding in the case of continuing grants. A model format of the NSF form 1239 can be obtained from the address/homepage addresses listed earlier in this document under FURTHER INFORMATION. Use of this form is optional. However, the categories of information included on the NSF Form 1239 must be provided.

All current support from whatever source (e.g., Federal, state or local government agencies, private foundations, industrial or other commercial organizations) must be listed. The proposed project and all other projects or activities requiring a portion of time of the PI and other senior personnel should be included, even if they receive no salary support from the project(s). The total award amount for the entire award period covered (including indirect costs) should be shown as well as the number of person-months per year to be devoted to the project, regardless of source of support.

(8) Proposal format and assembly: Clamp the proposal in the upper left-hand corner, but leave it unbound. Use one inch (2.5 cm) margins at the top, bottom, left and right of each page. Use a clear and easily legible type face in standard 12 point size.

Part II: Further Supplementary Information

(1) Program authorities: For a list of all program authorities for the Coastal Ocean Program, see COP's General Grant Administration Terms and Conditions annual notice in the Federal Register (64 FR 49162, September 10, 1999) and at the COP home page. Specific Authority cited for this Announcement is 33 U.S.C. 883(d) for Coastal Ocean Program and the National Science Foundation Act of 1950, as amended (42 U.S.C. 1861-75) for NSF.

(2) Catalog of Federal Domestic Assistance Numbers: 11.478 for the Coastal Ocean Program and 47.050 for the Directorate for Geosciences, National Science Foundation.

(3) Program description: For complete COP program descriptions, see the annual COP General Notice (64 FR 49162, September 10, 1999).

(4) Funding availability: Funding is contingent upon receipt of fiscal years 2001-2005 Federal appropriations and upon availability of funds. The anticipated maximum annual funding for NEP GLOBEC activities is $6 to $8 million, which may not occur until 2001; until then the program expects increments from its current level of $2.5 million per year. Of the annual total, approximately half will be devoted to CCS activities (funded in an earlier RFP), and half to CGOA research (present RFP).

If an application is selected for funding, NSF and NOAA have no obligation to provide any additional prospective funding in connection with that award in subsequent years. Renewal of an award to increase funding or extend the period of performance is based on satisfactory performance and is at the total discretion of the funding agencies. Not all proposals selected will receive funding for the entire duration of the CGOA program. Moreover, start dates for some proposals may be delayed, or proposals may be funded for the second of the two field years only. Proposals selected for funding by NSF must comply with NSF grants administration requirements for any additional budget forms required by that agency. NSF grants will be administered in accordance with the terms and conditions of NSF GC-1, “Grant General Conditions,” or FDP-III, “Federal Demonstration Project General Terms and Conditions,” depending on the grantee organization. More comprehensive information on the administration of NSF grant is contained in the Grant Policy Manual (NSF 95-26), available at http:www.nsf.gov/cgi-bin/getpub?nsf9526.

Publication of this document does not obligate any agency to any specific award or to any part of the entire amount of funds available. Recipients and subrecipients are subject to all Federal laws and agency policies, regulations, and procedures applicable to Federal financial assistance awards.

(5) Matching requirements: None.

(6) Type of funding instrument: Project Grants for non-Federal applicants; interagency transfer agreements or other appropriate mechanisms other than project grants or cooperative agreements for Federal applicants.

(7) Eligibility criteria: For complete eligibility criteria for the Coastal Ocean Program, see COP's General Grant Administration Terms and Conditions annual document in the Federal Register (64 FR 49162, September 10, 1999) and at the COP home page. Proposals deemed acceptable from Federal researchers will be funded through a mechanism other than a grant or cooperative agreement where legal authority allows for such funding. Non-NOAA Federal applicants are required to submit certification or documentation which clearly shows that they can receive funds from the Department of Commerce (DOC) for research (i.e., legal authority exists allowing the transfer of funds from DOC to the non-NOAA Federal applicant's agency).

(8) Award period: Full Proposals should cover a project period for 5 years, FY 2001-05, all dependent on continuing appropriations and availability of funds.

(9) Indirect costs: If indirect costs are proposed, the following statement applies: The total dollar amount of the indirect costs proposed in an application must not exceed the indirect cost rate negotiated and approved by a cognizant Federal agency prior to the proposed effective date of the award.

(10) Application forms: For complete information on application forms for the Coastal Ocean Program, see COP's General Grant Administration Terms and Conditions annual notice in the Federal Register (64 FR 49162, September 10, 1999); the COP home page; and the information given earlier in this document under Required Elements, paragraph (5) Budget.

(11) Project funding priorities: For description of project funding priorities, see COP's General Grant Administration Terms and Conditions annual notice in the Federal Register (64 FR 49162, September 10, 1999) and at the COP home page. Those priorities are in addition to the priorities listed in this notice.

(12) Evaluation criteria: For complete information on evaluation criteria, see COP's General Grant Administration Terms and Conditions annual notice in the Federal Register (64 FR 49162, September 10, 1999) and at the COP home page.

(13) Selection procedures: For complete information on selection procedures, see COP's General Grant Administration Terms and Conditions annual notice in the Federal Register (64 FR 49162, September 10, 1999) and at the COP home page.

(14) Other requirements: For a complete description of other requirements, see COP's General Grant Administration Terms and Conditions annual notice in the Federal Register (64 FR 49162, September 10, 1999) and at the COP home page.

(15) Pursuant to Executive Orders 12876, 12900 and 13021, the Department of Commerce, National Oceanic and Atmospheric Administration (DOC/NOAA) is strongly committed to broadening the participation of Historically Black Colleges and Universities, Hispanic Serving Institutions and Tribal Colleges and Universities in its educational and research programs. The DOC/NOAA vision, mission and goals are to achieve full participation by Minority Serving Institutions (MSI) in order to advance the development of human potential, to strengthen the nation's capacity to provide high-quality education, and to increase opportunities for MSIs to participate in, and benefit from, Federal Financial Assistance programs. DOC/NOAA encourages all applicants to include meaningful participation of MSIs.

(16) Applicants are hereby notified that they are encouraged, to the greatest practicable extent, to purchase American-made equipment and products with funding provided under this program.

(17) This notification involves collection-of-information requirements subject to the Paperwork Reduction Act. The use of Standard Forms 424, 424A, 424B, and SF-LLL have been approved by the Office of Management and Budget (OMB) under control numbers 0348-0043, 0348-0044, 0348-0040 and 0348-0046.

The COP Grants Application Package has been approved by OMB under control number 0648-0384 and includes the following information collections: a Summary Proposal Budget Form, a Project Summary Form, standardized formats for the Annual Performance Report and the Final Report, and the submission of up to twenty copies of proposals. Copies of these forms and formats can be found on the COP Home Page under Grants Support section, Part F.

Proposals to NSF must include a one-page NSF-UNOLS Ship Time Request Form and the NSF Form l239 for Current and Pending Support. Both NSF forms have been approved by OMB as follows: The UNOLS form, also titled NSF Form 831, has OMB clearance through June 2002 under control number OMB No. 3145-0058. The NSF Form l239 for Current and Pending Support is also cleared as part of the NSF Grant Proposal Guide and Proposal Forms Kit under OMB Number. 3145-0058 with an expiration date of June 2002.

Notwithstanding any other provision of law, no person is required to respond to, nor shall any person be subject to a penalty for failure to comply with a collection of information subject to the requirements of the Paperwork Reduction Act, unless that collection displays a currently valid OMB control number.

Dated: March 23, 2000.
Ted I. Lillestolen,
Deputy Assistant Administrator, National Ocean Service, National Oceanic and Atmospheric Administration.
Dated: March 15, 2000.
G. Michael Purdy,
Director, Division of Ocean Sciences, National Science Foundation.

[FR Doc. 00-7922 Filed 3-29-00; 8:45 am]

BILLING CODE 3510-JS-F